ENVIRONMENTAL PROTECTION AGENCY

40 CFR Part 60

[EPA-HQ-OAR-2016-0382; FRL-9959-43-OAR]

RIN 2060-AT15

Revisions to Procedure 2—Quality Assurance Requirements for Particulate Matter Continuous Emission Monitoring Systems at Stationary Sources

AGENCY: Environmental Protection Agency (EPA).

ACTION: Withdrawal of direct final rule.

SUMMARY: Because the Environmental Protection Agency (EPA) received an adverse comment, we are withdrawing the direct final rule titled, “Revisions to Procedure 2—Quality Assurance Requirements for Particulate Matter Continuous Emission Monitoring Systems at Stationary Sources.”

DATES: Effective February 15, 2017, the EPA withdraws the direct final rule published at 81 FR 83160, on November 21, 2016.

FOR FURTHER INFORMATION CONTACT: Questions concerning this action should be addressed to Ms. Kimberly Garnett, U.S. Environmental Protection Agency, Office of Air Quality Planning and Standards, Air Quality Assessment Division, Measurement Technology Group (E143-02), Research Triangle Park, NC 27711; telephone number: (919) 541-1158; fax number: (919) 541-0516; email address: garnett.kim@epa.gov.

SUPPLEMENTARY INFORMATION: The direct final rule, “Revisions to Procedure 2—Quality Assurance Requirements for Particulate Matter Continuous Emission Monitoring Systems at Stationary Sources,” published on November 21, 2016, at 81 FR 83160. We stated in that direct final rule that if we received adverse comment by December 21, 2016, the direct final rule would not take effect and we would publish a timely withdrawal in the Federal Register. We subsequently received adverse comment on that direct final rule requesting that the EPA delete or reserve section(s) in the rule that conflict with the intended revisions. We will address the comment in a subsequent final action, which will be based on the parallel proposed rule also published on November 21, 2016, at 81 FR 83189. As stated in the direct final rule and the parallel proposed rule, we will not institute a second comment period on this action.

List of Subjects in 40 CFR Part 60

Environmental protection, Administrative practice and procedure, Air pollution control, Continuous emission monitoring systems, Particulate matter, Procedures.

Dated: February 8, 2017.
Sarah Dunham,
Acting Assistant Administrator.

[FR Doc. 2017-03063 Filed 2-14-17; 8:45 am]

BILLING CODE 6560-50-P